DEPARTMENT OF AGRICULTURE

Forest Service

Meeting of the Land Between the Lakes Advisory Board

AGENCY: Forest Service, USDA.

ACTION: Notice of meeting.

SUMMARY: The Land Between The Lakes Advisory Board will hold a meeting on Thursday, November 18, 2010. Notice of this meeting is given under the Federal Advisory Committee Act, 5 U.S.C. App.2.

The meeting agenda includes the following:

(1) Welcome/Introductions

(2) Environmental Education

(3) Orientation of New Members

(4) LBL Updates

(5) Board Discussion of Comments Received

The meeting is open to the public. Written comments are invited and may be mailed to: William P. Lisowsky, Area Supervisor, Land Between The Lakes, 100 Van Morgan Drive, Golden Pond, Kentucky 42211. Written comments must be received at Land Between The Lakes by November 11, 2010, in order for copies to be provided to the members at the meeting. Board members will review written comments received, and at their request, oral clarification may be requested at a future meeting.

DATES: The meeting will be held on November 18, 2010, 9 a.m. to 3:30 p.m., CST.

ADDRESSES: The meeting will be held at the Land Between The Lakes Administrative Building, Golden Pond, Kentucky, and will be open to the public.

FOR FURTHER INFORMATION CONTACT: Kylie Urquhart, Advisory Board Liaison, Land Between The Lakes, 100 Van Morgan Drive, Golden Pond, Kentucky 42211, 270-924-2002.

SUPPLEMENTARY INFORMATION: None.

Dated: October 5, 2010.
William P. Lisowsky,
Area Supervisor, Land Between The Lakes.

[FR Doc. 2010-25537 Filed 10-8-10; 8:45 am]

BILLING CODE 3410-11-P